DEPARTMENT OF TRANSPORTATION

Federal Aviation Administration

Public Notice for Waiver of Aeronautical Land-Use Assurance: Bolton Field Airport; Columbus, OH

AGENCY: Federal Aviation Administration, DOT.

ACTION: Notice of intent of waiver with respect to land.

SUMMARY: The Federal Aviation Administration (FAA) is considering a proposal to change a portion of the Bolton Field Airport from aeronautical use to non-aeronautical use and to authorize the sale of the airport property. The proposal consists of the sale of unimproved land owned by the Columbus Regional Airport Authority (CRAA) for use as an office/warehouse/distribution facility.

The CRAA has requested from FAA a “Release from Federal agreement obligated land covenants” to sell 60.282 acres of property acquired by the CRAA with Federal funding under Grant Number 8-39-0026-01.

The above mentioned land is not needed for aeronautical use, as shown on the Airport Layout Plan. There are no impacts to the airport by allowing the CRAA to dispose of the property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before November 5, 2012.

ADDRESSES: Documents reflecting this FAA action may be reviewed at the Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/FAX Number (734) 229-2950.

SUPPLEMENTARY INFORMATION: Following is a legal description of the property located in the City of Columbus, Franklin County, Ohio, and described as follows:

Description of Property Being Released (60.282 Acres)

Situate in the State of Ohio, Franklin County, City of Columbus, lying in Virginia Military Survey Number 1462, being 4.473 acres out of that original 108.301 acre tract (Tract 26) and 55.809 acres out of that 82.98 acre tract (Tract 27) as conveyed to Columbus Regional Airport Authority by deed of record in Instrument Number 20071231221193 (all records herein are from the Recorder's Office, Franklin County, Ohio) and being further described as follows:

Begin, for reference, at Franklin County Engineer's Monument 5146 at the centerline intersection of Holt Road (70 feet in width) and Alkire Road (width varies);

Thence North 87°12′43″ West a distance of 1221.21 feet, long the centerline of Alkire Road to a PK nail found at the southeasterly corner of said 82.98 acre tract, and being the southwesterly corner of that 7.846 acre tract as conveyed to M & J Development and Storage Systems, LLC by deed of record in Instrument Number 200512090260149;

Thence North 02°02′58″ East, a distance of 737.67 feet along the line common to said 82.98 and 7.846 acre tracts passing a ¾ inch iron pipe found with cap stamped “STANTEC” at 50.00 feet to a ¾ inch iron pipe set at the True Point of Beginning;

Thence the following five (5) courses and distances across said 82.98 and 108.301 acre tracts;

North 87°57′02″ West, a distance of 159.01 feet to a ¾ inch iron pipe set;

North 57°37′01″ West, a distance of 1204.85 feet to a ¾ inch iron pipe set;

North 00°45′58″ East, a distance of 687.54 feet to a ¾ inch iron pipe set;

North 39°30′41″ West, a distance of 102.52 feet to a ¾ inch iron pipe set;

North 66°08′30″ West, a distance of 447.78 feet to a ¾ inch iron pipe set on the easterly line of that 13.6672 acre tract as conveyed to the City of Columbus by deed of record in Instrument Number 200712310221202;

Thence North 01°09′32″ East, a distance of 306.65 feet along the line common to said 108.301 and 13.6672 acre tracts to a ¾ inch iron pipe found with a yellow cap stamped “S5669” on a corner common to said 108.301 and 13.6672 acre tracts, and being on the southerly line of that 16.715 acre tract as conveyed to Robert Eickholt by deed of record in Instrument Number 200505230098299;

Thence South 88°50′02″ East, a distance of 474.90 feet along the line common to said 108.301 and 16.715 acre tracts to a ⅝ inch rebar found with cap stamped “Thomas Engr. & Surveying” on the line common to said 108.301 and 82.98 acre tracts;

Thence North 00°55′10″ East, a distance of 404.87 feet, continuing along the line common to said 82.98 and 16.715 acre tracts, passing a ⅝ rebar found at 96.85 feet, to a ¾ inch iron pipe set at the southwesterly corner Lot 18 of Georgesville Square Subdivision and Dedication of Holt Road of record in Plat Book 87, Pages 11-15, and that original 17.449 acre tract as conveyed to Glimcher Properties LP by deeds of record in Official Record 30163 F05 and Official Record 30328 D19;

Thence South 88°37″05” East, a distance of 1236.05 feet, along the southerly line of said Lot 18 and original 17.449 acre tract to a 1 inch iron pipe found at the northeasterly corner of said 82.98 acre tract, and being the corner common to Lot 18 and Lot 17;

Thence South 02°02′58″ West, a distance of 2272.05 feet along the line common to said 82.98 acre tract, and that 1.400 acre tract as conveyed to Ashland Inc. by deed of record in Instrument Number 200211250301573, the Second Amendment to The Villas at Holt Run Condominium, Instrument Number 200807220112257, that original 10.799 acre tract conveyed to Scioto Land Development, LLC by deed of record in Instrument Number 200101120009093, that original 22.839 acre tract as conveyed to Scioto Land Development, LLC by deed of record in Instrument Number 200104130077279, the First Amendment to The Villas at Holt Run Condominium, Instrument Number 200212030308781, the line common to Holt Run, a subdivision of record in Plat Book 98, Page 33 and said 7.846 acre tract, and Lot 17, passing a ¾ inch iron pipe found with a cap stamped “R.D. ZANDE” at 1568.50 feet, a ¾ inch iron pipe found at 2100.23 feet to the True Point of Beginning, containing 60.282 acres, more or less, of which 4.473 acres are out of Auditor's Parcel Number 570-154749 and 55.809 acres are out of Auditor's Parcel Number 570-154767, and being subject to all easements, restrictions and rights-of-way of record.

The bearings shown above are based on the grid bearing of North 87°12′43″ West for the centerline of Alkire Road between Franklin County Engineer's Monuments FCGS 5146 and FCGS 4448 as determined by a GPS network of field observations performed in September, 2007, State Plane Coordinate System, South Zone, NAD 83 (NSRS 2007).

Issued in Romulus, Michigan, on September 21, 2012.
John L. Mayfield, Jr.,
Manager, Detroit Airports District Office FAA, Great Lakes Region.

[FR Doc. 2012-24657 Filed 10-4-12; 8:45 am]

BILLING CODE 4910-13-P